DEPARTMENT OF THE INTERIOR

Fish and Wildlife Service

[FWS-HQ-MB-2017-N077; FXMB12310900WHO-178-FF09M26000]

Agency Information Collection Activities: OMB Control Number 1018-0023; Migratory Bird Harvest Information Program and Migratory Bird Surveys

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on June 30, 2017. We may not conduct or sponsor and a person is not required to respond to a collection of information unless it displays a currently valid OMB control number.

DATES: You must submit comments on or before July 19, 2017.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS: BPHC, 5275 Leesburg Pike, Falls Church, VA 22041-3803 (mail), or Info_Coll@fws.gov (email). Please include “1018-0023” in the subject line of your comments. You may review the ICR online at http://www.reginfo.gov. Follow the instructions to review Department of the Interior collections under review by OMB.

FOR FURTHER INFORMATION CONTACT: Service Information Collection Clearance Officer, at info_coll@fws.gov (email) or (703) 358-2503 (telephone).

SUPPLEMENTARY INFORMATION:

I. Abstract

The Migratory Bird Treaty Act (16 U.S.C. 703-711) and the Fish and Wildlife Act of 1956 (16 U.S.C. 742d) designate the Department of the Interior as the key agency responsible for (1) the wise management of migratory bird populations frequenting the United States, and (2) setting hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under 50 CFR 20.20, migratory bird hunters must register for the Migratory Bird Harvest Information Program (HIP) in each State in which they hunt each year. State natural resource agencies must send names and addresses of all migratory bird hunters to Branch of Harvest Surveys, U.S. Fish and Wildlife Service Division of Migratory Bird Management, on an annual basis.

The Migratory Bird Hunter Survey is based on the Migratory Bird Harvest Information Program. We randomly select migratory bird hunters and ask them to report their harvest. The resulting estimates of harvest per hunter are combined with the complete list of migratory bird hunters to provide estimates of the total harvest for the species surveyed.

The Parts Collection Survey estimates the species, sex, and age composition of the harvest, and the geographic and temporal distribution of the harvest. Randomly selected successful hunters who responded to the Migratory Bird Hunter Survey the previous year are asked to complete and return a postcard if they are willing to participate in the Parts Collection Survey. We provide postage-paid envelopes to respondents before the hunting season and ask them to send in a wing or the tail feathers from each duck or goose that they harvest, or a wing from each mourning dove, woodcock, band-tailed pigeon, snipe, rail, or gallinule that they harvest. We use the wings and tail feathers to identify the species, sex, and age of the harvested sample. We also ask respondents to report on the envelope the date and location of harvest for each bird. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed.

II. Data

OMB Control Number: 1018-0023.

Title: Migratory Bird Information Program and Migratory Bird Surveys, 50 CFR 20.20.

Service Form Number: FWS Forms 3-165, 3-165A through E, 3-2056J through N.

Type of Request: Revision to a currently approved collection.

Description of Respondents: States and migratory game bird hunters.

Respondent's Obligation: Mandatory for HIP registration information; voluntary for participation in the surveys.

Frequency of Collection: Annually or on occasion.

Activity | Number of respondents | Number of responses | Completion time per response | Total annual burden hours *
Migratory Bird Harvest Information Program
| 49 | 784 | 157 hours | 123,088
Migratory Bird Hunter Survey
Form 3-2056J | 37,000 | 37,000 | 5 minutes | 3,083
Form 3-2056K | 23,100 | 23,100 | 4 minutes | 1,540
Form 3-2056L | 8,900 | 8,900 | 4 minutes | 593
Form 3-2056M | 12,000 | 12,000 | 3 minutes | 600
Parts Collection Survey
Form 3-165 | 4,200 | 92,400 | 5 minutes | 7,700
Form 3-165A | 1,000 | 5,500 | 5 minutes | 458
Form 3-165B | 3,600 | 3,600 | 1 minute | 60
Form 3-165C | 400 | 400 | 1 minute | 7
Form 3-165D | 1,100 | 1,100 | 1 minute | 18
Form 3-165E | 900 | 1,350 | 5 minutes | 113
Sandhill Crane Harvest Survey
Form 3-2056N | 4,000 | 4,000 | 3.5 minutes | 233
Totals | 96,249 | 190,134 |  | 137,493
* Burden hours are rounded

III. Comments

On February 24, 2017, we published in the Federal Register (82 FR 11603) a notice of our intent to request that OMB renew approval for this information collection. In that notice, we solicited comments for 60 days, ending on April 25, 2017. We received five comments in response to the notice. One commenter objected to the surveys, but did not address the information collection requirements. Therefore, we did not provide a response. The remaining four comments are summarized below, along with the Service responses.

Comment 1: Received April 7, 2017, from the Atlantic Flyway Council via email:

The Atlantic Flyway Council provided comments in response to the four topics listed below (we have provided our responses following each separate comment from the Atlantic Flyway Council; see “Service Response”).

Comment 1A: Whether or not the collection of information is necessary, including whether or not the information will have practical utility.

The Atlantic Flyway commented that the surveys are absolutely critical to the management of migratory birds and maintaining hunting seasons, and that without reliable data on harvest parameters derived from these surveys, our ability to make decisions could result in less than optimal levels of migratory bird populations and decrease in hunting opportunity. They commented that the surveys provide substantial evidence that game bird species are wisely managed, thus preventing meaningful legal challenges against migratory game bird hunting seasons.

Service Response to Comment 1A: No response required.

Comment 1B: The accuracy of our estimate of the burden for this collection of information.

The Atlantic Flyway stated that, while the methodology used to estimate the time burden was not clear, the estimates did not appear to be unreasonable, and that they did not believe the surveys caused a significant burden on respondents. Further, they stated that the necessity to collect the information outweighed the time burden of the survey.

Service Response to Comment 1B: No response required.

Comment 1C: Ways to enhance the quality, utility, and clarity of the information to be collected.

The Atlantic Flyway Council stated that they believed these surveys are conducted in a reliable and efficient fashion and employ a methodology that provides accurate and reliable data. They also stated that the use of electronic surveys may allow for an increase in sample size which might increase the reliability and accuracy of the survey and reduce overall costs, as well as reduce the burden on respondents. They encouraged examination of those techniques and were anxious to work with the Service to improve or change the surveys.

Service Response to Comment 1C: We are working with the USFWS's Information Resources and Technology Management (IRTM) to develop an online survey response platform to allow hunters to respond to the diary survey over the Internet, as an alternative to a paper form. This change to our survey platform will not be implemented until the 2018-2019 harvest season at the earliest. We intend to involve the flyways and other stakeholders in the development of this online form to make sure the implementation is smooth and does not increase the burden on survey respondents or impact the integrity of the data we collect.

Comment 1D: Ways to minimize the burden of the collection of information on respondents:

The Atlantic Flyway reiterated their comment that they did not believe the surveys caused a significant burden on respondents, but encouraged examination of methods such as electronic surveys, which they said could reduce the burden.

Service Response to Comment 1D: See Service response to comment 1C.

Comment 2: Received April 17, 2017, from the New Mexico Department of Game and Fish (hereafter NMDGF) via email:

The New Mexico Department of Game and Fish provided comments in response to the four topics listed below (see Service response following each comment).

Comment 2A: Regarding whether or not the collection of information is necessary, including whether or not the information will have practical utility; whether there are any questions they felt were unnecessary:

The NMDGF stated their full support of the continuation of the Migratory Bird Harvest Information Program, the Migratory Bird Hunter Survey, Parts Collection Survey, and the Sandhill Crane Survey. NMDGF stated that the estimates of hunters and harvests from these surveys allow for informed decision making in setting harvest regulations and avoiding overharvest of migratory game birds that could lead to decreased population numbers as well as decreased hunting opportunities and local economic expenditures by hunters within NM.

Service Response to Comment 2A: No response required.

Comment 2B: Regarding the accuracy of our estimate of burden for this collection of information:

The NMDGF noted that the surveys are voluntary, and does not believe they cause significant burden, and that our estimate of the burden is accurate.

Service Response to Comment 2B: No response required.

Comment 2C: Regarding ways to enhance the quality, utility, and clarity of the information to be collected:

The NMDGF believes that the surveys are conducted appropriately, allowing for accurate and usable estimates of the number of hunters and harvests, and allowing New Mexico to evaluate decisions regarding hunting season selections within the Federal hunting frameworks.

Service Response to Comment 2C: No response required.

Comment 2D: Regarding ways to minimize the burden of the collection of information on respondents:

The NMDGF stated that, while they do not believe the surveys cause a significant burden, NMDFG encourages critical examination of the current methods to reduce burden wherever possible. However, they noted that any changes to the methodology would require appropriate funding and resources for sampling design and development and proper implementation of changes to ensure reliability and usability of the resulting data.

Service Response to Comment 2D: In the next several years, we intend to undertake a critical review of the sampling design of this survey, as part of an effort to modernize our overall data management processes. As stated previously in this document, we will also be moving to an online harvest diary form, which should reduce the burden on respondents by making it easier to fill out and submit the form. We fully intend to involve State agency partners in this modification to the survey.

Comment 3: Received April 24, 2017, from the Pacific Flyway Council, via email:

The Pacific Flyway Council provided comments in response to the 4 topics listed below (see Service Response following each comment).

Comment 3A: Whether or not the collection of information is necessary, including whether or not the information will have practical utility:

The Pacific Flyway Council stated that the data obtained from these surveys are absolutely critical to the proper management of migratory game birds, and that, without this information, their ability to make appropriate decisions could result in less than optimal migratory bird populations and a decrease in hunting recreation. They also stated that the surveys provide substantial evidence regarding wise management of migratory birds that prevents meaningful legal challenges against migratory bird hunting seasons.

Service Response to Comment 3A: No response required.

Comment 3B: Regarding the accuracy of our estimate of burden for this collection of information:

The Pacific Flyway Council believed the estimates did not appear to be unreasonable, and that the surveys do not cause a significant burden on respondents. Further, they stated that the necessity to collect the information far outweighs the time and effort to collect it.

Service Response to Comment 3B: No response required.

Comment 3C: Regarding ways to enhance the quality, utility, and clarity of the information to be collected:

The Pacific Flyway Council stated they believed the surveys are conducted in an appropriate fashion, but stated that there could be improvements in the approaches and techniques used to increase efficiency and reliability or use new and changing technologies, specifically, that the use of electronic surveys might allow for increase in sample size and increased reliability and accuracy. The flyway council encouraged examination of these techniques and expressed willingness to work with the Service to improve or change the surveys, but noted that these explorations would require appropriate funding for development and implementation.

Service Response to Comment 3C: As stated in Service response 2D above, in the next several years, we intend to undertake a critical review of the sampling design of this survey, as part of an effort to modernize our overall data management processes. We will also be moving to an online harvest diary form which should reduce the burden on respondents by making it easier to fill out and submit the form. We fully intend to involve flyway partners in this modification to the survey, which should allow us to increase sample sizes where needed while maintaining reliability and accuracy of the survey.

Comment 3D: Ways to minimize the burden of the collection of information on respondents:

The Pacific Flyway Council reiterated that they did not believe the surveys caused a significant burden on respondents, but suggested the use of electronic surveys as a possible way to reduce the burden on respondents.

Service Response to Comment 3D: See 3B above.

Comment 4: Received April 27, 2017, from the Central Flyway Council, via email:

The Central Flyway Council provided comments in response to the four topics listed below (see Service response following each comment). The Council stated that they fully support continuation of the harvest surveys with their current protocol and methodology.

Comment 4A: Whether or not the collection of information is necessary, including whether or not the information will have practical utility:

The Central Flyway Council stated that the data obtained from these surveys are critical to the scientifically based management of migratory game birds under the Migratory Bird Treaty Act, and that the four flyway councils (Atlantic, Mississippi, Central, and Pacific) make informed decisions in setting and adjusting harvest regulations with this information. Without this information collection, the Flyway feels that less than optimal hunting regulations could be selected, resulting in a decrease in hunting recreation and local economic expenditures. They also stated that in the Central Flyway 140,000 goose hunters, 200,000 duck hunters, and 370,000 dove hunters spend approximately 3 million days afield, thanks in part to the information collected in these surveys and other Service migratory bird monitoring programs.

Service Response to Comment 4A: No response required.

Comment 4B: Regarding the accuracy of our estimate of burden for this collection of information:

The Central Flyway Council believes the accuracy of the estimates is appropriate based on their experience with migratory bird hunters across 10 States, and that the surveys do not cause a significant burden on respondents.

Service Response to Comment 4B: No response required.

Comment 4C: Ways to enhance the quality, utility, and clarity of the information to be collected:

The Central Flyway Council stated that they believe the surveys are conducted in an appropriate fashion that provides accurate and precise estimates of migratory bird hunter and harvest. They also stated that until alternative methodologies have been developed and vetted, mailing surveys is the sole method for obtaining high-quality information with migratory bird surveys. They noted that this information collection allows individual States to evaluate human-dimension decisions (e.g., timing of seasons, boundaries of hunting zones) related to the States' hunting season selections within the Federal framework for migratory bird seasons.

Service Response to Comment 4C: No response required.

Comment 4D: Ways to minimize the burden of the collection of information on respondents:

The Central Flyway Council reiterated that they did not believe the surveys caused a significant burden on respondents, but encouraged the examination of methods to reduce the burden of the surveys on respondents, and stated they were willing to work with the Service on any improvements or changes in the future. They further noted that these changes would require appropriate funding for their development and implementation, and also said there is a need to ensure comparability with previous methods.

Service Response to Comment 4D: As stated in Service response 2D above, in the next several years, we intend to undertake a critical review of the sampling design of this survey, as part of an effort to modernize our overall data management processes. We will also be moving to an online harvest diary form, which should reduce the burden on respondents by making it easier to fill out and submit the form. We fully intend to involve flyway partners in this modification to the survey, which should allow us to increase sample sizes where needed, while maintaining reliability and accuracy of the survey.

IV. Request for and Availability of Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

V. Authorities

The authorities for this action are the Migratory Bird Treaty Act (16 U.S.C. 703 et seq.), Fish and Wildlife Act of 1956 (16 U.S.C. 742a-742j), and the Paperwork Reduction Act of 1995 (44 U.S.C. 3501 et seq.).

Dated: June 14, 2017.
Madonna L. Baucum,
Information Collection Clearance Officer, U.S. Fish and Wildlife Service.

[FR Doc. 2017-12724 Filed 6-16-17; 8:45 am]

BILLING CODE 4333-15-P